ENVIRONMENTAL PROTECTION AGENCY

[ER-FRL-8993-4]

Environmental Impacts Statements; Notice of Availability

Responsible Agency: Office of Federal

Activities, General Information (202) 564-1399 or http://www.epa.gov/compliance/nepa/.

Weekly receipt of Environmental Impact Statements Filed 10/18/2010 Through 10/22/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100423, Draft EIS, HUD, WA, Yesler Terrace Redevelopment Project, Proposed Redevelopment of Yesler Terrace to Create a Mixed Income, Mixed-Use-Residential Community on a 28 Acre Site, to Better Serve Existing and Future Residents, City of Seattle, WA, Comment Period Ends: 12/13/2010, Contact: Ryan Moore 206-615-3548.

EIS No. 20100424, Draft EIS, USACE, TX, Rusk Permit Area, Proposes to Construct, Operate, and Reclaim Permit Area, Expansion of Existing South Hallsville No. 1 Mine. Issuance of Section 404 Permit, Rusk, Harrison and Panola Counties, TX, Comment Period Ends: 12/28/2010, Contact: Davin Messer 817-886-1744.

EIS No. 20100425, Draft EIS, USFS, AZ, Apache-Sitgreaves National Forests, Public Motorized Travel Management Plan, Proposes to Provide for a System of Roads, Trails, and Areas, Designated for Motorized Use, Apache, Coconino, Greenlee and Navajo Counties, AZ, Comment Period Ends: 12/13/2010, Contact: Tami Conner 918-333-6267.

EIS No. 20100426, Draft EIS, NRC, NJ, License Renewal of Nuclear Plants, Regarding Hope Creek Generating Station and Salem Nuclear Generating Station, Units 1 and 2, Supplement 45 to NUREG-1437, Lower Alloway Creek, Township, Salem County, NJ, Comment Period Ends: 12/17/2010, Contact: Leslie Perkins 301-415-2375.

EIS No. 20100427, Final EIS, NASA, VA, Wallops Flight Facility, Shoreline Restoration and Infrastructure Protection Program, Implementation, Wallops Island, VA, Wait Period Ends: 11/29/2010, Contact: Joshua A. Bundick 757-824-2319.

EIS No. 20100428, Second Draft Supplement, FHWA, WA, Alaskan Way Viaduct Replacement Project, Between S. Royal Brougham Way and Roy Street, To Protect Public Safety and Provide Essential Vehicle Capacity to and through downtown Seattle, Updated Information to 2004 DEIS and 2006 DSEIS, Seattle, WA, Comment Period Ends: 12/13/2010, Contact: Angela Freudenstein 206-805-2832.

EIS No. 20100429, Draft EIS, NHTSA, 00, Medium and Heavy-Duty Fuel Efficiency Improvement Program, Proposing Coordinated and Harmonized Fuel Consumption and Greenhouse Gas (GHG) Emissions Standards, United States, Comment Period Ends: 01/03/2011, Contact: Angel Jackson 202-366-0154.

Amended Notices

EIS No. 20100249, Draft EIS, FHWA, CA, Interstate 5 North Coast Corridor Project, Construction and Operation, Upgrade the Freeway with High Occupancy Vehicle/ Managed Lanes (HOV/ML), Auxiliary Lanes, Direct Access Ramps (DAR), and Possibly One General Purposes Lane, San Diego County, CA, Comment Period Ends: 11/22/2010, Contact: Cesar Perez 916-498-5065.

Revision to FR Notice Published 7/9/2010. Extending Comment Period from 10/07/2010 to 11/22/2010.

EIS No. 20100368, Draft EIS, USFS, WA, Pack and Saddle Stock Outfitter-Guide Special Use Permit Issuance, Okanogan, Chelah, and Skagit Counties, WA, Comment Period Ends: 11/22/2010, Contact: Jennifer Zbyszewski 509-996-4021.

Revision to FR Notice Published 09/17/2010: Extending Comment Period from 11/01/2010 to 11/22/2010.

Dated: October 26, 2010.
Robert W. Hargrove,
Director, NEPA Compliance Division, Office of Federal Activities.

[FR Doc. 2010-27423 Filed 10-28-10; 8:45 am]

BILLING CODE 6560-50-P